COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add products and a service to the Procurement List that will be furnished by nonprofit agencies employing persons who are blind or have other severe disabilities.

DATES: Comments Must Be Received on or Before: 7/15/2013.

ADDRESSES: Committee for Purchase From People Who Are Blind or Severely Disabled, 1401 S. Clark Street, Suite 10800, Arlington, Virginia, 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

Cover, Certificate-Document, Gold Foil Stamped

NSN: 7510-01-519-5770—Black

NSN: 7510-01-519-5771—Blue

NPA: Dallas Lighthouse for the Blind, Inc., Dallas, TX

Contracting Activity: General Services Administration, New York, NY Coverage: A-List for the Total Government Requirement as aggregated by the General Services Administration.

NSN: 7110-00-NIB-0077—Work/Plan Kit, Magnetic, 3′ x 2′

NSN: 7110-00-NIB-0078—Work/Plan Kit, Magnetic, 4′ x 3′

NSN: 7110-00-NIB-0079—Work/Plan Kit, Magnetic, 6′ x 4′

NSN: 7110-00-NIB-0081—White Board, Subtle Grid, 3′ x 2′

NSN: 7110-00-NIB-0082—White Board, Subtle Grid, 4′ x 3′

NSN: 7110-00-NIB-0083—White Board, Subtle Grid, 2′ x 1.5′

NSN: 7110-00-NIB-0084—White Board, Subtle Grid, 3′ x 2′

NSN: 7110-00-NIB-0085—White Board, Subtle Grid, 4′ x 3′

NSN: 7110-00-NIB-0086—White Board, Subtle Grid, 6′ x 4′

NSN: 7110-00-NIB-0087—White Board, Cubicle, Aluminum, 14″ x 11″

NSN: 7110-00-NIB-2200—Calendar, Four-Month, Aluminum, 4′ x 3′

NSN: 7195-00-NIB-0040—Bulletin Board, Cubicle Cork, Aluminum, 24″ x 14″

NPA: The Lighthouse for the Blind, Inc. (Seattle Lighthouse), Seattle, WA

Contracting Activity: General Services Administration, FSS Household and Industrial Furniture, Arlington, VA

Coverage: A-List for the Total Government Requirement as aggregated by the General Services Administration.

NSN: 7510-00-NIB-9905—Self Stick Rectangular Flag, 1″ x 1.7″, Bright Blue

NPA: Association for the Blind and Visually Impaired—Goodwill Industries of Greater Rochester, Rochester, NY

Contracting Activity: General Services Administration, New York, NY

Coverage: A-List for the Total Government Requirement as aggregated by the General Services Administration.

File Jackets, Letter and Legal, Manila

NSN: 7530-00-NIB-1077—Letter, Straight Tab Cut

NSN: 7530-00-NIB-1078—Letter, Straight Tab Cut, 1″ Expansion

NSN: 7530-00-NIB-1079—Letter, Straight Tab Cut, 1.5″ Expansion

NSN: 7530-00-NIB-1080—Letter, Straight Tab Cut, 2″ Expansion

NSN: 7530-00-NIB-1081—Legal, Straight Tab Cut

NSN: 7530-00-NIB-1082—Legal, Straight Tab Cut, 1″ Expansion

NSN: 7530-00-NIB-1083—Legal, Straight Tab Cut, 1.5″ Expansion

NSN: 7530-00-NIB-1084—Legal, Straight Tab Cut, 2″ Expansion

NPA: Association for Vision Rehabilitation and Employment, Inc., Binghamton, NY

Contracting Activity: General Services Administration, New York, NY

Coverage: A-List for the Total Government Requirement as aggregated by the General Services Administration.

NSN: 7530-01-364-9489—Tabs, Multicolor, Numerical, 1-5

NSN: 7530-00-NIB-1120—Tabs, Multicolor, Numerical, 1-12

NSN: 7530-01-407-2250—Tabs, Legal, Clear, Numerical, 1-25

NSN: 7530-01-407-2248—Tabs, Legal, Clear, Numerical, 26-50

NPA: South Texas Lighthouse for the Blind, Corpus Christi, TX

Contracting Activity: General Services Administration, New York, NY

Coverage: A-List for the Total Government Requirement as aggregated by the General Services Administration.

NSN: MR 10609—Bowl, Insulated Thermal, Toddler, 8oz

NSN: MR 10626—Poster Book, Coloring, Assorted, 36 x 42

NSN: MR 10629—Scrub Stone, Grill Cleaner

NPA: Winston-Salem Industries for the Blind, Inc., Winston-Salem, NC

Contracting Activity: Defense Commissary Agency, Fort Lee, VA

Coverage: C-List For The Requirements Of Military Commissaries And exchanges as aggregated by the Defense Commissary Agency.

Service

Service Type: Procurement Portal Service

Service Location: Federal Bureau of Prisons, Washington, DC

NPA: Industries for the Blind, Inc., West Allis, Wisconsin

Contracting Activity: Federal Bureau of Prisons, Washington, DC

Barry S. Lineback,
Director, Business Operations.

[FR Doc. 2013-14149 Filed 6-13-13; 8:45 am]

BILLING CODE 6353-01-P